DEPARTMENT OF VETERANS AFFAIRS

Privacy Act of 1974

AGENCY: Department of Veterans Affairs.

ACTION: Notice of amendment to system name and addition of routine uses.

SUMMARY: As required by the Privacy Act of 1974, 5 U.S.C. 552a(e)(4), notice is hereby given that the Department of Veterans Affairs (VA) is amending the system name of the system of records currently identified as “Compensation, Pension, Education, and Rehabilitation Records—VA” (58VA21/22/28) to be identified as “Compensation, Pension, Education, and Vocational Rehabilitation Records—VA” (58VA21/22/28). The system of records is also amended by adding new routine uses for disclosure of identifying information on VA beneficiaries.

DATES: The proposed routine uses will be effective June 19, 2008 unless comments are received before this date that would result in a contrary determination.

ADDRESSES: Written comments may be submitted through http://www.Regulations.gov; by mail or hand delivery to the Director, Regulations Management (00REG), Department of Veterans Affairs, 810 Vermont Ave., NW., Room 1068, Washington, DC 20420; or by fax to (202) 273-9026. Copies of comments received will be available for public inspection in the Office of Regulation Policy and Management, Room 1063B, between the hours of 8 a.m. and 4:30 p.m. Monday through Friday (except holidays). Please call (202) 273-9515 for an appointment. In addition, during the comment period, comments may be viewed online through the Federal Docket Management System.

FOR FURTHER INFORMATION CONTACT: Brandye R. Terrell, Management and Program Analyst, Education Service (225C), Department of Veterans Affairs, 810 Vermont Avenue, NW., Washington, DC 20420, telephone (202) 461-9822. (This is not a toll-free number.)

SUPPLEMENTARY INFORMATION: VA proposes to amend the system name of the system of records identified by system number 58VA21/22/28 to better identify the business lines covered by the system of records. The current name “Compensation, Pension, Education, and Rehabilitation Records-VA” is amended to read “Compensation, Pension, Education, and Vocational Rehabilitation Records-VA”.

VA also proposes to add additional routine use disclosures to release identifying information on VA beneficiaries to:

1. The National Archives and Records Administration to perform records management inspections under title 44 U.S.C.

2. The Department of Justice (DoJ), court, or other administrative body if the information is relevant to DoJ's representation of the United States in any legal proceedings or if the use of the information is compatible with the purpose for which it was collected.

3. Individuals, organizations, private or public agencies, or other entities with whom VA has a contract, agreement, or subcontract to perform services as VA determines useful for the purposes of laws administered by VA.

4. Federal agencies to assist such agencies in preventing and detecting possible fraud or abuse by individuals in their operations and programs.

5. Appropriate agencies, entities, and persons VA determines are reasonably necessary to assist VA in preventing, minimizing, or remedying a suspected or confirmed compromise of information that may result in embarrassment or harm to the record subjects, harm to economic or property interests, identity theft or fraud, or harm to the security, confidentiality, or integrity of systems maintained by VA, other agencies, or entities that also rely on the potentially compromised information. This routine use will allow VA to provide necessary information in response to a suspected or confirmed data breach, including conducting a risk analysis or other provision of credit protection as provided in 38 U.S.C. 5724.

The Privacy Act permits VA to disclose information about individuals without their consent for a routine use when the information will be used for a purpose that is compatible with the purpose for which the information was collected. In all of the proposed routine use disclosures, either the recipient of the information will use the information in connection with a matter relating to one of VA's programs, or will use the information to provide a benefit to VA, or disclosure is required by law.

VA has determined that release of information under circumstances such as those described above is a necessary and proper use of the information in this system of records and that the specific routine uses proposed for the transfer of this information are appropriate.

An altered system of records report and a copy of the revised system notice have been sent to the House of Representatives Committee on Government Reform and Oversight, the Senate Committee on Governmental Affairs, and the Office of Management and Budget (OMB), as required by 5 U.S.C. 552a(r) and guidelines issued by OMB (65 FR 77677, December 12, 2000).

The proposed new routine uses 65 through 69 will be added to the system of records entitled “Compensation, Pension, Education, and Rehabilitation Records—VA” (58VA21/22/28), as published in the Federal Register at 41 FR 9294 (3/3/76), and amended at 63 FR 37941 (7/14/98), 65 FR 37605 (6/15/00), 66 FR 47725 (9/13/01), and last amended at 70 FR 34186 (6/13/05), with other amendments as cited therein.

Approved: May 2, 2008.
Gordon H. Mansfield,
Deputy Secretary of Veterans Affairs.

Notice of Amendment of System of Records

The system identified as 58VA21/22/28 “Compensation, Pension, Education and Rehabilitation Records-VA” published in the Federal Register at 41 FR 9294 (3/3/76), amended at 63 FR 37941 (7/14/98), 65 FR 37605 (6/15/00), 66 FR 47725 (9/13/01), and last amended at 70 FR 34186 (6/13/05), with other amendments as cited therein, is revised to amend the system name and add new routine uses numbered 65 through 69 as follows:

58VA21/22/28

System name:

Compensation, Pension, Education, and Vocational Rehabilitation Records-VA.

* * * * *

65. Disclosure may be made to the National Archives and Records Administration in record management inspections conducted under Authority of Title 44 U.S.C.

66. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is a use of the information contained in the records that is compatible with the purpose for which VA collected the records. VA, on its on initiative, may disclose records in this system of records in legal proceedings before a court or administrative body after determining that the disclosure of records to the court or administrative body is a use of the information contained in the records that is compatible with the purpose for which VA collected the records.

67. Disclosure of relevant information may be made to individuals, organizations, public or private agencies, or other entities with whom VA has a contract or agreement or where there is a subcontract to perform such services as VA may deem practicable for the purposes of laws administered by VA, in order for the contractor or subcontractor to perform the services of the contract or agreement.

68. Disclosure to other Federal agencies may be made to assist such agencies in preventing and detecting possible fraud or abuse by individuals in their operations and programs.

69. VA may on its own initiative, disclose any information or records to appropriate agencies, entities, and persons when (1) VA suspects or has confirmed that the integrity or confidentiality of information in the system of records has been compromised; (2) VA has determined that as a result of the suspected or confirmed compromise, there is a risk of embarrassment or harm to the reputations of the record subjects, harm to the economic or property interests, identity theft or fraud, or harm to the programs (whether maintained by VA or another agency or entity) that rely upon the potentially compromised information; and (3) the disclosure is to agencies, entities, or persons whom VA determines are reasonably necessary to assist or carry out the VA's efforts to respond to the suspected or confirmed compromise and prevent, minimize, or remedy such harm. This routine use permits disclosures by VA to respond to a suspected or confirmed data breach, including the conduct of any risk analysis or provision of credit protection services as provided in 38 U.S.C. 5724, as the terms are defined in 38 U.S.C. 5727.

* * * * *

[FR Doc. E8-11240 Filed 5-19-08; 8:45 am]

BILLING CODE 8320-01-P